ENVIRONMENTAL PROTECTION AGENCY

[ER-FRL-9050-4]

Environmental Impact Statements; Notice of Availability

Responsible Agency: Office of Federal Activities, General Information 202-564-5632 or https://www.epa.gov/nepa.

Weekly receipt of Environmental Impact Statements (EIS)

Filed April 6, 2020, 10 a.m. EST Through April 13, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200086, Final Supplement, NRC, VA, Generic Environmental Impact Statement for License Renewal of Nuclear Plants, Supplement 6, Second Renewal, Regarding Subsequent License Renewal for Surry Power Station Units 1 and 2, Review Period Ends: 05/18/2020, Contact: Tam Tran 301-415-3617.

EIS No. 20200087, Draft, BLM, WY, Wyoming Pipeline Corridor Initiative Resource Management Plan Amendments/Environmental Impact Statement, Comment Period Ends: 07/16/2020, Contact: Heather Schultz 307-775-6084.

EIS No. 20200088, Final, USFS, BLM, CO, Browns Canyon National Monument Proposed Resource Management Plan, Review Period Ends: 05/18/2020, Contact: Joseph Vieira 719-246-9966.

Amended Notice

EIS No. 20200042, Draft Supplement, BLM, ID, Idaho Greater Sage-Grouse 2020 Draft Supplemental EIS, Comment Period Ends: 05/21/2020, Contact: Jon Beck 208-373-3841. Revision to FR Notice Published 2/21/2020; Extending the Comment Period from 4/6/2020 to 5/21/2020.

EIS No. 20200045, Draft Supplement, BLM, CO, Colorado Greater Sage-Grouse 2020 Draft Supplemental EIS, Comment Period Ends: 05/21/2020, Contact: Jon Beck 208-373-3841. Revision to FR Notice Published 2/21/2020; Extending the Comment Period from 4/6/2020 to 5/21/2020.

EIS No. 20200046, Draft Supplement, BLM, NV, Nevada/California Greater Sage-Grouse 2020 Draft Supplemental EIS, Comment Period Ends: 05/21/2020, Contact: Jon Beck 208-373-3841. Revision to FR Notice Published 2/21/2020; Extending the Comment Period from 4/6/2020 to 5/21/2020.

EIS No. 20200047, Draft Supplement, BLM, OR, Oregon Greater Sage-Grouse 2020 Draft Supplemental EIS, Comment Period Ends: 05/21/2020, Contact: Jon Beck 208-373-3841. Revision to FR Notice Published 2/21/2020; Extending the Comment Period from 4/6/2020 to 5/21/2020.

EIS No. 20200048, Draft Supplement, BLM, UT, Utah Greater Sage-Grouse 2020 Draft Supplemental EIS, Comment Period Ends: 05/21/2020, Contact: Jon Beck 208-373-3841. Revision to FR Notice Published 2/21/2020; Extending the Comment Period from 4/6/2020 to 5/21/2020.

EIS No. 20200049, Draft Supplement, BLM, WY, Wyoming Greater Sage-Grouse 2020 Draft Supplemental EIS, Comment Period Ends: 05/21/2020, Contact: Jon Beck 208-373-3841. Revision to FR Notice Published 2/21/2020; Extending the Comment Period from 4/6/2020 to 5/21/2020.

EIS No. 20200060, Draft, FHWA, VA, Route 220 Martinsville Southern Connector, Comment Period Ends: 05/15/2020, >Contact: Mack A Frost 804-775-3352. Revision to FR Notice Published 3/6/2020; Extending the Comment Period from 4/20/2020 to 5/15/2020.

Dated: April 14, 2020.
Cindy S. Barger,
Director, NEPA Compliance Division,Office of Federal Activities.

[FR Doc. 2020-08147 Filed 4-16-20; 8:45 am]

BILLING CODE 6560-50-P